DEPARTMENT OF ENERGY

Federal Energy Regulatory Commission

[Docket No. CP05-360-000]

Creole Trail LNG Terminal, L.P.; Notice of Technical Conference

July 14, 2005.

On Wednesday, August 10, 2005, at 8:30 a.m. (CDT), staff of the Office of Energy Projects will convene a cryogenic design and technical conference regarding the proposed Creole Trail LNG import terminal. The cryogenic conference will be held in the Holiday Inn Express Hotel & Suites in Sulphur, Louisiana. The hotel is located at 102 Mallard St, Sulphur, Louisiana 70665. For hotel details call 337-625-2500.

In view of the nature of critical energy infrastructure information and security issues to be explored, the cryogenic conference will not be open to the public. Attendance at this conference will be limited to existing parties to the proceeding (anyone who has specifically requested to intervene as a party) and to representatives of interested Federal, state, and local agencies. Any person planning to attend the August 10th cryogenic conference must register by close of business on Friday, August 5, 2005. Registrations may be submitted either online at https://www.ferc.gov/whats-new/registration/cryo-conf-form.asp or by faxing a copy of the form (found at the referenced online link) to 202-208-0353. All attendees must sign a non-disclosure statement prior to entering the conference. For additional information regarding the cryogenic conference, please contact Kareem M. Monib at 202-502-6265.

Linda Mitry,
Deputy Secretary.

[FR Doc. E5-3876 Filed 7-20-05; 8:45 am]

BILLING CODE 6717-01-P